DEPARTMENT OF AGRICULTURE

Forest Service

Giant Sequoia National Monument Scientific Advisory Board

AGENCY: Forest Service, USDA.

ACTION: Notice of meeting.

SUMMARY: The Giant Sequoia National Monument Scientific Advisory Board (Scientific Advisory Board) will hold a teleconference meeting on Tuesday, July 15, 2003. Scientific Advisory Board members will be phoning in from various points around the country. A telephone will be set up for members of the public to hear the meeting, at the Sequoia National Forest Supervisor's Office, 900 West Grand Avenue, Porterville, California. The purpose of the meeting is for the Scientific Advisory Board to discuss and deliberate on their final report to the Secretary of Agriculture.

DATES: The meeting will be held Tuesday, July 15, 2003, from 8 a.m. to 12 p.m., Pacific daylight time.

ADDRESSES: Members of the public will be able to listen to the meeting at the Sequoia National Forest Supervisor's Office, 900 West Grand Avenue, Porterville, California, in Room 8.

FOR FURTHER INFORMATION CONTACT: To receive further information, contact Arthur L. Gaffrey, (559) 784-1500, or (559) 781-6650 TDD.

SUPPLEMENTARY INFORMATION: The meeting is open to the public. If you are planning to attend, please contact Arthur L. Gaffrey to ensure adequate seating. The meeting is accessible to persons with disabilities. If you need accommodations, please contact Arthur L. Gaffrey at the number provided. No presentations by the public will occur.

Written comments for the Scientific Advisory Board may be submitted to Forest Supervisor, Arthur L. Gaffrey, Sequoia National Forest, 900 West Grand Avenue, Porterville, California 93257.

A final agenda can be obtained by contacting Arthur L. Gaffrey or by visiting the Giant Sequoia National Monument Web site at http://www.r5.fs.fed.us/giant_sequoia.

Dated: June 20, 2003.
Arthur L. Gaffrey,
Forest Supervisor, Sequoia National Forest.

[FR Doc. 03-16152 Filed 6-25-03; 8:45 am]

BILLING CODE 3410-11-M